DEPARTMENT OF HOMELAND SECURITY

Coast Guard

[Docket No. USCG-2018-0792]

Information Collection Request to Office of Management and Budget; OMB Control Number: 1625-0035

AGENCY: Coast Guard, DHS.

ACTION: Notice; correction.

SUMMARY: The Coast Guard published a document in the Federal Register on September 6, 2018, concerning a sixty-day notice requesting comments on an Information Collection Request to the Office of Management and Budget, Office of Information and Regulatory Affairs, requesting an extension of its approval for the following collection of information: 1625-0035, Title 46 CFR Subchapter Q: Lifesaving, Electrical, Engineering and Navigation Equipment, Construction and Materials & Marine Sanitation Devices (33 CFR part 159); without change. The document contained an error in the information collection request section.

FOR FURTHER INFORMATION CONTACT: Mr. Anthony Smith, Office of Information Management, telephone 202-475-3532, or fax 202-372-8405.

SUPPLEMENTARY INFORMATION:.

Correction

In the Federal Register of September 6, 2018, in FR Doc. 2018-19326, on page 45267, in the third column, correct the “Need” section to read:

Need: Tile 46 U.S.C. 2103, 3306, 3703, and 4302 authorize the Coast Guard to establish safety equipment and material regulations. Title 46 CFR parts 159 to 164 prescribe these requirements. Title 33 U.S.C. 1322 authorizes the Coast Guard to establish MSD regulations. Title 33 CFR part 159 prescribes these rules. NVIC 8-01 (Chg 3) prescribes the standards for navigation equipment. This information is used to determine whether manufacturers are in compliance with Coast Guard regulations. When the Coast Guard approves any safety equipment, material or MSD for use on a commercial vessel or pleasure craft, the manufacturer is issued a Certificate or Approval.

Dated: October 11, 2018.
James D. Roppel,
U.S. Coast Guard, Acting Chief, Office of Information Management.

[FR Doc. 2018-22552 Filed 10-16-18; 8:45 am]

BILLING CODE 9110-04-P